NATIONAL AERONAUTICS AND SPACE ADMINISTRATION

NASA Advisory Council, Aero-Space Technology Advisory Committee, Aviation Safety Reporting System Subcommittee; Meeting

[Notice 00-131]

AGENCY: National Aeronautics and Space Administration.

ACTION: Notice of meeting.

SUMMARY: In accordance with the Federal Advisory Committee Act, Public Law 92-463, as amended, the National Aeronautics and Space Administration announces a NASA Advisory Council, Aero-Space Technology Advisory Committee, Aviation Safety Reporting System Subcommittee meeting.

DATES: Monday, November 13, 2000, 9 a.m. to 5 p.m.; and Tuesday, November 14, 2000, 9 a.m. to 5 p.m.

ADDRESSES: Doubletree Hotel, Two Portola Plaza, Monterey, CA 93940.

FOR FURTHER INFORMATION CONTACT: Ms. Linda Connell, National Aeronautics and Space Administration, Ames Research Center, Moffett Field, CA 94035, 650/960-6059.

SUPPLEMENTARY INFORMATION: The meeting will be open to the public up to the seating capacity of the room. Agenda topics for the meeting are as follows:

—Report on Aviation Safety Reporting System

—Report on Aviation Performance Measuring System Program

It is imperative that the meeting be held on these dates to accommodate the scheduling priorities of the key participants. Visitors will be requested to sign a visitors register.

Dated: October 26, 2000.
Beth M. McCormick,
Advisory Committee Management Officer, National Aeronautics and Space Administration.

[FR Doc. 00-28001 Filed 10-31-00; 8:45 am]

BILLING CODE 7510-01-P